DEPARTMENT OF TRANSPORTATION

Federal Aviation Administration

14 CFR Part 39

[Docket No. FAA-2007-29175; Directorate Identifier 2007-NM-134-AD; Amendment 39-15292; AD 2007-25-10]

RIN 2120-AA64

Airworthiness Directives; Dassault Model Mystere-Falcon 50, Mystere-Falcon 900, Falcon 900EX, Falcon 2000, and Falcon 2000EX Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

A rotating rod in the trailing edge flap control linkage broke in flight. Investigations revealed that the rotating rod had been installed in the wrong side during a maintenance operation. This incorrect installation caused a contact between the rotating rod and its retaining bracket leading, after some time in operation, to the rod breakage and flap asymmetry situation.

The consequence on the airplane of the flap asymmetry combined with a latent failure of the asymmetry detection system is classified as a catastrophic failure condition.

The unsafe condition is failure of the rotating rod in the control linkage of the trailing edge flap and consequent flap asymmetry during the approach to landing, which could result in reduced controllability of the airplane. We are issuing this AD to require actions to correct the unsafe condition on these products.

DATES: This AD becomes effective January 14, 2008.

The Director of the Federal Register approved the incorporation by reference of certain publications listed in this AD as of January 14, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on September 13, 2007 (72 FR 52311). That NPRM proposed to correct an unsafe condition for the specified products. The MCAI states:

A rotating rod in the trailing edge flap control linkage broke in flight. Investigations revealed that the rotating rod had been installed in the wrong side during a maintenance operation. This incorrect installation caused a contact between the rotating rod and its retaining bracket leading, after some time in operation, to the rod breakage and flap asymmetry situation.

The consequence on the airplane of the flap asymmetry combined with a latent failure of the asymmetry detection system is classified as a catastrophic failure condition.

The unsafe condition is failure of the rotating rod in the control linkage of the trailing edge flap and consequent flap asymmetry during the approach to landing, which could result in reduced controllability of the airplane. The corrective actions include the following: Verifying the correct assembly of the flap rotating rods and associated brackets and installing the rod and bracket with correct orientation/positioning if necessary; and inspecting the rod for damage and replacing the rod if any damage is found. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 739 products of U.S. registry. We also estimate that it will take about 2 work-hours per product to comply with the basic requirements of this AD. The average labor rate is $80 per work-hour. Based on these figures, we estimate the cost of this AD to the U.S. operators to be $118,240, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-25-10 Dassault Aviation: Amendment 39-15292.

Docket No. FAA-2007-29175; Directorate Identifier 2007-NM-134-AD.

Effective Date

(a) This airworthiness directive (AD) becomes effective January 14, 2008.

Affected ADs

(b) None.

Applicability

(c) This AD applies to the airplanes identified in paragraphs (c)(1), (c)(2), (c)(3), and (c)(4) of this AD; certificated in any category.

(1) Dassault Model Mystere-Falcon 50 airplanes on which Dassault Modification M2996 has not been implemented.

(2) Dassault Model Mystere-Falcon 900 airplanes on which Dassault Modification M5007 has not been implemented.

(3) Dassault Model Falcon 900EX airplanes on which Dassault Modification M5007 has not been implemented (including serial number 601 and subsequent, also known as “DX” airplanes).

(4) Dassault Model Falcon 2000 and Falcon 2000EX airplanes on which Dassault Modification M2465 has not been implemented.

Subject

(d) Air Transport Association (ATA) of America Code 27: Flight controls.

Reason

(e) The mandatory continuing airworthiness information (MCAI) states:

A rotating rod in the trailing edge flap control linkage broke in flight. Investigations revealed that the rotating rod had been installed in the wrong side during a maintenance operation. This incorrect installation caused a contact between the rotating rod and its retaining bracket leading, after some time in operation, to the rod breakage and flap asymmetry situation.

The consequence on the airplane of the flap asymmetry combined with a latent failure of the asymmetry detection system is classified as a catastrophic failure condition.

The unsafe condition is failure of the rotating rod in the control linkage of the trailing edge flap and consequent flap asymmetry during the approach to landing, which could result in reduced controllability of the airplane. The corrective actions include the following: Verifying the correct assembly of the flap rotating rods and associated brackets and installing the rod and bracket with correct orientation/positioning if necessary; and inspecting the rod for damage and replacing the rod if any damage is found.

Actions and Compliance

(f) Unless already done, within 330 flight hours or 7 months after the effective date of this AD, whichever occurs first, do the following actions.

(1) Verify the correct assembly of the flap rotating rods and associated retaining brackets installed in the LH (left-hand)/RH (right-hand) wing root compartment and in the LH and RH main landing gear compartment and inspect the rod for damage, in accordance with the applicable Dassault service bulletin given in Table 1 of this AD.

(2) If a rod is found damaged, replace this rod prior to next flight in accordance with the applicable Dassault service bulletin given in Table 1 of this AD. If the rod orientation or bracket positioning is not correct, correct the orientation or positioning, as applicable, prior to next flight in accordance with the applicable Dassault service bulletin given in Table 1 of this AD.

(3) Label the rods and associated retaining brackets in accordance with the applicable Dassault service bulletin given in Table 1 of this AD.

Table 1.—Dassault Service Bulletins
Airplane model | Service Bulletin | Date
Mystere-Falcon 50 | F50-468 | March 29, 2006.
Mystere-Falcon 900 | F900-367 | March 29, 2006.
Falcon 900EX | F900EX-269 | March 29, 2006.
Falcon 2000 | F2000-326 | March 29, 2006.
Falcon 2000EX | F2000EX-83 | March 29, 2006.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2006-0115, dated May 10, 2006; and the Dassault service bulletins listed in Table 1 of this AD, for related information.

Material Incorporated by Reference

(i) You must use the service information specified in Table 2 of this AD to do the actions required by this AD, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Dassault Service Bulletin | Date
F50-468 | March 29, 2006.
F900-367 | March 29, 2006.
F900EX-269 | March 29, 2006.
F2000-326 | March 29, 2006.
F2000EX-83 | March 29, 2006.

Issued in Renton, Washington, on November 23, 2007.
Ali Bahrami,
Manager, Transport Airplane Directorate, Aircraft Certification Service.

[FR Doc. E7-23638 Filed 12-7-07; 8:45 am]

BILLING CODE 4910-13-P